Title 3—

The President

Proclamation 10368 of April 11, 2022

Education and Sharing Day, USA, 2022

By the President of the United States of America

A Proclamation

As we work together to build a better America, we must remember that education is the key to achieving greater opportunity, prosperity, stability, and equality both here and around the world. A high-quality education develops the mind, opens the heart, nurtures our talents, and fortifies our character. Through education, we learn to recognize ourselves in our neighbors and cherish the dignity of our shared human experience. No one understood this better than the man whose life and legacy we celebrate on this day: Rabbi Menachem Mendel Schneerson, the Lubavitcher Rebbe and leader of the Chabad-Lubavitch movement.

The Rebbe's devotion to educating people worldwide and his profound respect for diversity, inclusiveness, and equal justice have set a strong example for generations of Americans and people across the globe. Having survived one of history's cruelest chapters, the Rebbe emerged determined to help heal the soul of humanity. He left his mark as a thinker, leader, and teacher who recognized the limitless potential of every human being regardless of their background. His outreach is still felt today in countless houses of worship, centers of education, cultural exchanges, and service communities worldwide.

The Rebbe's work reminds us, in the words of the Prophet Amos, to “hate evil, love good, and establish justice in the gate.” We each share a responsibility to live up to those words—in and out of the classroom—and to plant the seeds of love, kindness, and empathy in the hearts and minds of every child in America.

To ensure that our children are provided every opportunity to learn and grow, my Administration provided resources through the American Rescue Plan for schools to safely reopen for in-person instruction. Today, thanks to our COVID-19 strategy and the resilience of local communities, more than 99 percent of America's schools are open again. But if we are truly going to build a better America, we must continue to make transformational investments in education—including making high-quality pre-school available to every 3- and 4-year old in America and coming together to address the invisible toll on children's mental health that was exacerbated by the pandemic.

Today—on what would have been the Rebbe's 120th birthday—let us celebrate all the educators, advocates, and pioneers who teach young people the lessons that create caring neighbors and closer communities. Let us commit to learning together, sharing the best we have to offer, and working in unity for the common good.

NOW, THEREFORE, I, JOSEPH R. BIDEN JR., President of the United States of America, by virtue of the authority vested in me by the Constitution and the laws of the United States, do hereby proclaim April 12, 2022, as Education and Sharing Day, USA. I call upon all government officials, educators, volunteers, and all the people of the United States to observe this day with appropriate programs, ceremonies, and activities.

IN WITNESS WHEREOF, I have hereunto set my hand this eleventh day of April, in the year of our Lord two thousand twenty-two, and of the Independence of the United States of America the two hundred and forty-sixth.

[FR Doc. 2022-08131

Filed 4-13-22; 8:45 am]

Billing code 3395-F2-P